DEPARTMENT OF TRANSPORTATION

Federal Motor Carrier Safety Administration

49 CFR Chapter III

[Docket No. FMCSA-2023-0174]

RIN 2126-AC60

General Technical, Organizational, Conforming, and Correcting Amendments to the Federal Motor Carrier Safety Regulations

AGENCY: Federal Motor Carrier Safety Administration (FMCSA), Department of Transportation (DOT).

ACTION: Final rule.

SUMMARY: FMCSA amends its regulations by making technical corrections throughout the Federal Motor Carrier Safety Regulations (FMCSRs). The Agency makes minor changes to correct inadvertent errors and omissions, remove or update obsolete references, and improve the clarity and consistency of certain regulatory provisions. The Agency also makes a change to its rules of organization, procedures, and practice.

DATES: This final rule is effective November 17, 2023, except for amendatory instruction 88, which is effective January 16, 2024.

FOR FURTHER INFORMATION CONTACT: Mr. Nicholas Warren, Regulatory Development Division, Office of Policy, FMCSA, 1200 New Jersey Avenue SE, Washington, DC 20590-0001; (202) 366-6124; nicholas.warren@dot.gov.

SUPPLEMENTARY INFORMATION:

I. Legal Basis for the Rulemaking

Congress delegated certain powers to regulate interstate commerce to DOT in numerous pieces of legislation, most notably in section 6 of the Department of Transportation Act (DOT Act) (Pub. L. 89-670, 80 Stat. 931, 937, Oct. 15, 1966). Section 6 of the DOT Act transferred to DOT the authority of the former Interstate Commerce Commission (ICC) to regulate the qualifications and maximum hours of service of employees, the safety of operations, and the equipment, of motor carriers in interstate commerce (80 Stat. 939). This authority, first granted to the ICC in the Motor Carrier Act of 1935 (Pub. L. 74-255, 49 Stat. 543, Aug. 9, 1935), now appears in 49 U.S.C. chapter 315. The regulations issued under this authority, as well as subsequently enacted laws, became known as the FMCSRs, codified at 49 Code of Federal Regulations (CFR) parts 350 through 399. The administrative powers to enforce chapter 315 (codified in 49 U.S.C. chapter 5) were also transferred from the ICC to DOT in 1966, assigned first to the Federal Highway Administration (FHWA), and then to FMCSA. The FMCSA Administrator, whose powers and duties are set forth in 49 U.S.C. 113, has been delegated authority by the Secretary of Transportation (the Secretary) under 49 CFR 1.81 to prescribe regulations and to exercise authority over and with respect to any personnel within the organization, and under 49 CFR 1.87 to carry out the motor carrier functions vested in the Secretary.

Between 1984 and 1999, enforcement of the FMCSRs, the Hazardous Materials Regulations, and the Commercial Regulations was added to FHWA's authority. The statutes granting these authorities include the Motor Carrier Safety Act of 1984 (Pub. L. 98-554, Title II, 98 Stat. 2832, Oct. 30, 1984), codified at 49 U.S.C. chapter 311, subchapter III; the Commercial Motor Vehicle Safety Act of 1986 (Pub. L. 99-570, Title XII, 100 Stat. 3207-170, Oct. 27, 1986), codified at 49 U.S.C. chapter 313; the Hazardous Materials Transportation Uniform Safety Act of 1990, as amended (Pub. L. 101-615, 104 Stat. 3244, Nov. 16, 1990), codified at 49 U.S.C. chapter 51; the Omnibus Transportation Employee Testing Act of 1991 (Pub. L. 102-143, Title V, 105 Stat. 917, 952, Oct. 28, 1991), codified at 49 U.S.C. 31306; the ICC Termination Act of 1995 (Pub. L. 104-88, 109 Stat. 803, Dec. 29, 1995), codified at 49 U.S.C. chapters 131-149; and the Transportation Equity Act for the 21st Century (Pub. L. 105-178, 112 Stat. 107, June 9, 1998).

The Motor Carrier Safety Improvement Act of 1999 (Pub. L. 106-159, 113 Stat. 1748, Dec. 9, 1999) established FMCSA as a new operating administration within DOT, effective January 1, 2000. Accordingly, since that time the motor carrier safety, and certain commercial, responsibilities previously assigned to both the ICC and FHWA have been the jurisdiction of FMCSA. These responsibilities also include regulations relating to section 18 of the Noise Control Act of 1972, codified at 42 U.S.C. 4917, which were originally assigned to the Secretary of Transportation (Pub. L. 92-574, 86 Stat. 1249, Oct. 27, 1972) and delegated to FHWA (39 FR 7791, Feb. 28, 1974), and are now the jurisdiction of FMCSA, as codified at 49 U.S.C. 113(f)(1).¹

¹ Responsibility for the regulations related to section 18 of the Noise Control Act was given to FMCSA by Congress in section 101 of the Motor Carrier Safety Improvement Act (Pub. L. 106-159, 113 Stat. 1748, 1750, Dec. 9, 1999).

Congress subsequently expanded, modified, and amended FMCSA's authority in the Uniting and Strengthening America by Providing Appropriate Tools Required to Intercept and Obstruct Terrorism Act of 2001 (Pub. L. 107-56, 115 Stat. 272, Oct. 26, 2001); the Safe, Accountable, Flexible, Efficient Transportation Equity Act: A Legacy for Users (SAFETEA-LU) (Pub. L. 109-59, 119 Stat. 1144, Aug. 10, 2005); the SAFETEA-LU Technical Corrections Act of 2008 (Pub. L. 110-244, 122 Stat. 1572, June 6, 2008); the Moving Ahead for Progress in the 21st Century Act (MAP-21) (Pub. L. 112-141, 126 Stat. 405, July 6, 2012); Fixing America's Surface Transportation Act (Pub. L. 114-94, 129 Stat. 1312, Dec. 4, 2015); and the Infrastructure Investment and Jobs Act (Pub. L. 117-58, 135 Stat. 429, Nov. 15, 2021).

The specific regulations amended by this rule are based on the statutes detailed above. Generally, the legal authority for each of those provisions was explained when the requirement was originally adopted and is noted at the beginning of each part in 49 CFR.

The Administrative Procedure Act (APA) specifically provides exceptions to its notice and comment rulemaking procedures when an agency finds there is good cause to dispense with them, and incorporates the finding, and a brief statement of reasons therefore, in the rules issued (5 U.S.C. 553(b)(B)). Good cause exists when an agency determines that notice and public comment procedures are impractical, unnecessary, or contrary to the public interest. The amendments made in this final rule primarily correct inadvertent errors and omissions, remove or update obsolete references, and make minor language changes to improve clarity and consistency. The technical amendments do not impose any new material requirements or increase compliance obligations. For these reasons, FMCSA finds good cause that notice and public comment on this final rule are unnecessary.

In addition to amendments that fall within the APA good cause exception, this rule also contains amendments that fall within the APA exception for rules of agency organization, procedure, or practice. The Agency amends part 386, titled “Rules of Practice for FMCSA Proceedings,” so that administrative proceedings under that part are brought before the appointed or duly authorized Agency Decisionmaker rather than the Assistant Administrator. These amendments fall within the exception to the APA's notice and comment rulemaking procedures for “rules of agency organization, procedure, or practice,” (5 U.S.C. 553(b)(A)), and are therefore excepted from the notice and public comment requirements. Further, the APA does not apply to matters “relating to agency management or personnel” (5 U.S.C. 553(a)(2)); therefore, the notice and comment rulemaking procedures do not apply to the Agency Decisionmaker amendments in part 386.

The APA also allows agencies to make rules effective immediately with good cause (5 U.S.C. 553(d)(3)), instead of requiring publication 30 days prior to the effective date. For the reasons already stated, FMCSA finds there is good cause for this rule to be effective immediately, except as noted in amendatory instruction 84 concerning the revised Medical Examination Report Form, MCSA-5875, in § 391.43(f) and Medical Examiner's Certificate, Form MCSA-5876, in § 391.43(h).

II. Severability

The purpose of this rule is to make technical amendments throughout FMCSA's regulations. These amendments include minor changes to correct inadvertent errors and omissions, remove or update obsolete references, and improve the clarity and consistency of certain regulatory provisions. These technical amendments, which apply to many different parts of FMCSA's regulations, are collected into this single rule for rulemaking efficiency. This rule is bound together by the common character of the changes as technical amendments, rather than a common subject matter. As a result, FMCSA finds that the provisions in this final rule can operate independently and are therefore severable. In the event a court were to invalidate one or more of this rulemaking's unique provisions, the remaining provisions should stand.

III. Section-by-Section Analysis

This section-by-section analysis first describes changes to the regulatory text that affect multiple parts within the FMCSRs, and then the remaining changes to the regulatory text in numerical order.

A. Amendments Affecting Multiple Parts Within Chapter III, Subchapter B

The following amendments affect chapter III, subchapter B, as a whole, or multiple parts within the subchapter.

Redesignation of Appendix B to Subchapter B of Chapter III and Deletion of Reserved Appendices

FMCSA makes several amendments to the appendices of chapter III, subchapter B, to complete a reorganization of that subchapter. The object of the reorganization is to move each appendix at the end of subchapter B to the specific part to which the appendix most directly pertains, for the purpose of making the appendices more helpful and accessible to the reader. All but one of the appendices have already been moved via redesignation, though appendices A and C through E remain reserved at the end of the subchapter to maintain the appendix ordering.² The last non-reserved appendix, appendix B, is now moved and the reserved appendices are deleted.

² In 2021, FMCSA redesignated subchapter B, appendix F (entitled “Commercial Zones”), as appendix A to part 372 (86 FR 57060, 57066, Oct. 14, 2021). In the same rule FMCSA redesignated subchapter B, appendix G (entitled “Minimum Periodic Inspection Standards”), as appendix A to part 396 (86 FR 57060, 57066, Oct. 14, 2021). Both of these appendices were removed and were not reserved.

Subchapter B formerly had an appendix A entitled “Interpretations.” This appendix contained a collection of interpretations of the FMCSRs. FMCSA's predecessor agency, FHWA, deemed this appendix obsolete, and removed and reserved it (59 FR 60319, 60322, Nov. 23, 1994). With the relocation of appendix B, appendix A no longer needs to be reserved to maintain the appendix ordering, and so FMCSA deletes reserved appendix A to subchapter B.

FMCSA redesignates appendix B to subchapter B, entitled “Special Agents,” as appendix B to part 390. This appendix describes the authority of persons appointed as special agents of FMCSA, and the obligations of motor carriers and other regulated entities to comply with examination and inspection by special agents. Of the parts within the FMCSRs, this appendix most directly pertains to part 390, “Federal Motor Carrier Safety Regulations; General,” therefore FMCSA redesignates the appendix as appendix B to that part. Note that the appendix is cross-referenced in several sections of the FMCSRs, and conforming amendments are made to update these cross-references, as described later in the section-by-section analysis.

Subchapter B formerly had an appendix C entitled “Written Examination for Drivers.” This appendix related to a written examination covering the FMCSRs, then required by part 391. FHWA determined this requirement was unnecessary and removed and reserved the appendix (59 FR 60319, 60320, Nov. 23, 1994). FMCSA now deletes the reserved appendix.

Subchapter B formerly had an appendix D entitled “Table of Disqualifying Drugs and Other Substances, Schedule I,” and an appendix E entitled “Tables of Disqualifying Drugs and Other Substances, Schedules II Through V.” Earlier versions of the FMCSRs cross-referenced these tables in regulations related to controlled substances use and testing. When the controlled substances use and testing regulations were updated, these cross-references to appendices were replaced with cross-references to drug schedules located elsewhere in the CFR (see, e.g., 62 CFR 37150, 37151, July 11, 1997 (amendment to the definition of controlled substance in § 383.5)). The change in cross-references made appendices D and E unnecessary, and FHWA removed and reserved them (62 CFR 37150, 37153, July 11, 1997). FMCSA now deletes these reserved appendices.

Replacement of the Term “Web Site”

FMCSA amends the FMCSRs throughout to change the terms “Web site” and “web site” to “website.” This change adds consistency throughout the FMCSRs by adopting the updated form of the term, which is already used in several regulations (see, e.g., 49 CFR 375.213(a)(1)). FMCSA also changes the term “http” to “https” to ensure the website addresses in the CFR are accurate. This amendment affects §§ 365.105, 365.106T, 365.503, 368.3, 368.3-1T, 368.3T, 369.1, 371.107, 371.111, 371.117, 375.103, 375.213, 385.305, 385.305T, 385.603T, 389.5, 390.19, 390.19T, 390.200T, 390.201, 391.43, 395.22, and appendix A to subpart B of part 395.

Addition of a Hyphen to the Adjective “Third-Party”

FMCSA amends the FMCSRs by adding a hyphen to the term “third party” where it is used as an adjective. In these instances, hyphen usage is recommended by the U.S. Government Publishing Office Style Manual. This amendment increases clarity by updating the term to use the correct grammar to avoid confusion. This amendment does not affect instances where “third party” is used as a noun (see, e.g., 49 CFR 350.207(b)). This amendment affects §§ 382.107, 382.401, 382.403, 382.409, 382.711, 383.5, 383.75, 384.228, 384.229, and 390.15.

B. Part 325—Compliance With Interstate Motor Carrier Noise Emission Standards

Section 325.13 Inspection and Examination of Motor Vehicles

FMCSA replaces “appendix B to subchapter B” with “appendix B to part 390” in paragraph (a). This change reflects the redesignation of appendix B to subchapter B of chapter III—Special Agents, as discussed above in section III.A. The redesignation appends the Special Agents material to part 390, the part to which it most directly pertains.

C. Part 375—Transportation of Household Goods in Interstate Commerce; Consumer Protection Regulations

Section 375.103 What are the definitions of terms used in this part?

FMCSA replaces “§ 1312.3(a)” with “§ 1310.3(a)” in the definition of tariff to correct a cross-reference. The definition currently references 49 CFR 1312.3(a) when referring to Surface Transportation Board tariff requirements. However, the Surface Transportation Board tariff requirements for shipments of household goods referenced in the definition of tariff are found at 49 CFR 1310.3(a). Accordingly, FMCSA is updating the cross-reference to reflect the correct section of the regulations.

Section 375.403 How must I provide a binding estimate?

FMCSA amends § 375.403(a)(6)(ii) to clarify the requirements for binding estimates provided by household goods motor carriers. Section 375.403(a) describes the requirements for a binding estimate, and § 375.403(a)(6) relates to situations where a shipper of household goods tenders additional household goods or requires additional services not identified in the binding estimate. This section was amended last year to incorporate recommendations from the Household Goods Consumer Protection Working Group (the Working Group) (87 FR 24431, Apr. 26, 2022). Prior to this amendment, § 375.403(a)(6)(ii) referred to a revised binding estimate that accurately listed, in detail, additional household goods or services. As amended, § 375.403(a)(6)(ii) refers to a new, rather than a revised, binding estimate and does not expressly refer to a list of additional goods or services.

FMCSA's purpose in amending this section was merely to change the requirement from a revised binding estimate to a new binding estimate (87 FR 24431, 24435, Apr. 26, 2022).³ The Working Group had found that, in some cases, revised estimates obscured whether the shipper and mover had agreed to the items to be moved, services to be provided, and price to be paid. The lack of clear terms made it difficult for investigators to address shipper complaints, and the Working Group recommended requiring a new estimate, rather than a revised estimate, to close this loophole.

³ This intention is further evidenced by the report on which the 2022 amendment was based, Recommendations to the U.S. Department of Transportation to Improve Household Goods Consumer Education, Simplify and Reduce Paperwork, and Condense FMCSA Publication ESA 03005 (Working Group Recommendations). The report is available online at https://www.fmcsa.dot.gov/sites/fmcsa.dot.gov/files/docs/fastact/450791/fast-act-hhg-working-group-report-recommendations.pdf (last accessed July 19, 2023). The report describes situations where rogue operators take advantage of revised estimates and recommends revising § 375.403(a)(6)(ii) to require a new estimate (see pp. 28-30).

In making the change from “revised binding estimate” to “new binding estimate” in 2022, however, there was no intent to remove the requirement that the estimate contain an accurate and detailed list of the household goods or services to which the estimate applied, and no such change was discussed in the rulemaking. Rather, FMCSA intended that the new estimate would justify the increased costs for additional goods and services by clearly describing all goods and services included in the shipment, as is required for original estimates in § 375.403(a)(5), including any additional goods tendered or services requested. It has come to FMCSA's attention that deleting this language may have inadvertently caused confusion about what a new binding estimate must contain. The Agency is therefore amending § 375.403(a)(6)(ii) to restore the language indicating that a list of additional household goods and services is required when a new estimate is prepared.

FMCSA also replaces “§ 375.401(a)” with “§ 375.401(b)(1)” in paragraph (b) to correct a cross reference. The requirements for a binding estimate referenced in paragraph (b) are in § 375.401(b)(1), whereas § 375.401(a) discusses physical surveys and does not mention binding estimates. Accordingly, FMCSA is updating the cross-reference to reflect the correct section of the regulations.

Section 375.405 How must I provide a non-binding estimate?

FMCSA amends § 375.405(b)(7)(ii) to make a clarification similar to the above amendment in § 375.403(a)(6)(ii). Section 375.405(b) describes the requirements for a non-binding estimate, and § 375.403(b)(7) relates to situations where a shipper of household goods tenders additional household goods or requires additional services not identified in the non-binding estimate, similar to the situation described in § 375.403(a)(6) but in the case of a non-binding estimate instead of a binding estimate. FMCSA amended § 375.405(b)(7)(ii) last year to require a new non-binding estimate, rather than a revised non-binding estimate (87 FR 24431, 24435, Apr. 26, 2022). As with the 2022 amendment to § 375.403(a)(6)(ii), FMCSA's amendment to streamline the regulatory language inadvertently caused confusion for movers when preparing new estimates. FMCSA now amends § 375.405(b)(7)(ii) to restore the original language, clarifying that the non-binding estimate must provide a detailed and accurate list of the additional household goods or services to which the estimate applies.

Section 375.505 Must I write up a bill of lading?

FMCSA amends § 375.505 by replacing the term “order for service” with the term “bill of lading” in paragraph (b)(4). This revision is consistent with the changes made in the 2022 final rule incorporating recommendations from the Working Group (87 FR 24431, Apr. 26, 2022). As noted in the preamble of that rule, in agreement with Recommendation 9 of the Working Group, FMCSA removed the requirements in part 375 for an order for service as duplicative and updated the requirements for a bill of lading to also include information that was previously contained in an order for service (87 FR 2441). While all references to an order for service in part 375 should have been replaced with references to a bill of lading, the final rule inadvertently left the original language in place in § 375.505(b)(4). FMCSA updates the reference to reflect that the bill of lading has replaced the order for service, consistent with the prior revisions.

D. Part 378—Procedures Governing the Processing, Investigation, and Disposition of Overcharge, Duplicate Payment, or Overcollection Claims

Section 378.2 Definitions

FMCSA revises the definition of overcollection in § 378.2(d) so that the Surface Transportation Board is no longer described as a component of DOT. The Surface Transportation Board Reauthorization Act made the Surface Transportation Board completely independent from DOT (Pub. L. 114-110, 129 Stat. 2228, at 2228-29, Dec. 18, 2015). This amendment removes the characterization of the Surface Transportation Board as a DOT component to conform with the board's current status as an independent agency.

E. Part 381—Waivers, Exemptions, and Pilot Programs

Section 381.225 Who should I contact if I have questions about the information I am required to submit to the FMCSA or about the status of my request for a waiver?

FMCSA replaces “Office of Bus and Truck Standards and Operations (MC-PS)” with “Office of Carrier, Driver & Vehicle Safety Standards (MC-PS)” to update the name of the office. The office name has changed to “Office of Carrier, Driver & Vehicle Safety Standards” since this section was last amended. FMCSA removes the word “the” preceding the term “FMCSA” in the section heading as an update to the language for consistency. FMCSA also removes the period after the term “SE” in the address provided in the section.

Section 381.315 What will the FMCSA do after the agency receives my application for an exemption?

FMCSA removes the word “the” where it precedes the term “FMCSA” in the section heading for consistency. FMCSA removes the word “to” preceding the word “either” in paragraph (b) and adds the word “to” before the word “deny” to correct a typographical error. In paragraph (d)(1), FMCSA replaces “the Department of Transportation, Docket Management Facility, 1200 New Jersey Ave. SE, Washington, DC 20590-0001” with “Dockets Operations, U.S. Department of Transportation, 1200 New Jersey Avenue SE, West Building, Ground Floor, Washington, DC 20590-0001” to update the office name and location. In paragraph (d)(2), FMCSA replaces “the Department of Transportation, Docket Management Facility” with “Dockets Operations, U.S. Department of Transportation” to update the office name.

F. Part 382—Controlled Substances and Alcohol Use and Testing

Section 382.213 Controlled Substance Use

FMCSA revises § 382.213(b) to replace “pursuant to the instructions of a licensed medical practitioner” with “prescribed by a licensed medical practitioner.” This amendment conforms to FMCSA's intent as described in its final rule “Harmonizing Schedule I Drug Requirements,” published at 77 FR 4479 (Jan. 30, 2012). The Agency had proposed to amend § 382.213(b) by replacing “prescribed by” with “pursuant to the instructions of” a licensed medical practitioner but declined to adopt that change. When declining to adopt the language change in the final rule, FMCSA explained that the proposed change was inconsistent with language used elsewhere in the Agency's regulations and would be confusing to public. The Agency further stated in the final rule that it was removing the language “pursuant to the instructions of” and replacing it with the original language in this section, “prescribed by” (77 FR 4481). However, that change was inadvertently omitted from the 2012 final rule regulatory text. This amendment conforms the language of § 382.213(b) with FMCSA's expressed intent.

Section 382.213(c) currently states that employers who have actual knowledge of controlled substance use by drivers must not permit the driver to perform, or continue to perform, safety-sensitive functions. The term controlled substances, currently defined in § 382.107, refers to those substances tested for in accordance with 49 CFR 40.82. FMCSA amends § 382.213(c) by adding “as defined in § 382.107” after “controlled substances” and by adding “except when the use is prescribed by a licensed medical practitioner, as defined in § 382.107, who is familiar with the driver's medical history and has advised the driver that the substance will not adversely affect the driver's ability to safely operate a commercial motor vehicle.” The Agency makes this change to conform § 382.213(c) with the language of § 382.213(b), as revised.

Section 382.217 Employer Responsibilities

Section 382.217 states that no employer may allow, require, permit, or authorize a driver to operate a commercial motor vehicle (CMV) during any period in which an employer determines that a driver is not in compliance with the return-to-duty requirements in 49 CFR part 40, subpart O, after the occurrence of prohibited drug or alcohol use, as specified in paragraphs (a) through (d) or has actual knowledge that a driver has used alcohol while performing safety sensitive functions, used alcohol within 4 hours of performing safety-sensitive functions, or used a controlled substance, as set forth in paragraphs (e)(1) through (3). The term controlled substance, currently defined in § 382.107, refers to those substances tested for in accordance with 49 CFR 40.82.

FMCSA amends paragraph (e)(3) by adding after “controlled substance” the phrase “except when the use is prescribed by a licensed medical practitioner who is familiar with the driver's medical history and has advised the driver that the substance will not adversely affect the driver's ability to safely operate a commercial motor vehicle.” Under current regulations, a driver who uses a controlled substance, as defined in § 382.107, pursuant to a valid prescription as described above, is not required to comply with return-to-duty requirements. The Agency makes this change to conform with existing practice in FMCSA's controlled substance use and testing program and to conform paragraph (e)(3) with the language of § 382.213(c), as revised.

G. Part 383—Commercial Driver's License Standards; Requirements and Penalties

Section 383.25 Commercial Learner's Permit (CLP)

FMCSA amends § 383.25(a)(1) by adding the words “and is otherwise authorized to operate the CMV for that trip” following “necessary to operate the CMV” in the first sentence. Section 383.25 permits a CLP holder to operate a CMV on public roads for purposes of behind-the-wheel (BTW) training, as long as several minimum conditions are met. One of these conditions, set forth in § 383.25(a)(1), requires that the CLP holder be accompanied by the holder of a valid commercial driver's license (CDL) who has the proper CDL group and endorsement(s) necessary to operate the CMV and is physically present in the front seat of the CMV next to the CLP holder, or in the case of a passenger vehicle, directly behind or in the first row behind the driver. The CDL holder must have the CLP holder under observation and direct supervision. The amendment clarifies that the CDL holder must also be legally authorized to operate the CMV for the trip. FMCSA makes this revision in response to a petition for rulemaking submitted in April 2023 by the Commercial Vehicle Safety Alliance asking the Agency to clarify this issue in the interest of promoting safety.

The requirement that the CLP holder be accompanied by the holder of a valid CDL who has the proper CDL group and endorsement(s) serves two purposes: (1) the CDL holder, having passed the CDL skills test(s), is knowledgeable in the operation of the CMV for BTW training purposes; and (2) the CDL holder is ready to assume control of the CMV in the event the CLP holder is not capable of performing a BTW training maneuver, or becomes otherwise incapacitated. As discussed below, FMCSA is aware, however, that situations may occur when the person accompanying the CLP holder has a valid CDL but is nevertheless not legally authorized to operate the CMV due to other existing regulatory requirements.

For example, someone holding a valid CDL may be prohibited from operating a CMV due to a drug or alcohol use or testing violation, in accordance with § 382.501(a). The Agency notes that even after the CDL downgrade provision set forth in § 383.73(q) takes effect on November 18, 2024, thereby removing the CDL privilege from the holder's license, the downgrade may not be recorded on the CDL holder's CDLIS record for up to 60 days. Another example involves a CDL holder who is not qualified to operate a CMV because they do not comply with the physical qualification requirements in 49 CFR part 391, subpart E, as required by § 391.11(a). The holder's CDL is subject to downgrade in accordance with § 383.73(o)(4), due to not a having a current medical certificate or medical variance, but again, the downgrade may not be effective for 60 days. Another scenario would be when a CDL holder has self-certified as “excepted interstate commerce” and is thus exempt from medical requirements, but the CDL holder is accompanying the CLP holder in a non-excepted interstate movement. Under these circumstances, operating without a current medical certificate is prohibited. In each of these examples, the individual continues to hold a CDL that is facially valid while they are otherwise prohibited from operating the CMV due to existing regulatory requirements. FMCSA acknowledges that these examples are not intended to be exclusive and that there may be other instances where an individual holding a valid CDL is not authorized to operate the CMV under the FMCSRs.

Section 383.37 Employer Responsibilities

FMCSA replaces the words “he or she” with the words “the employer” in the introductory text of § 383.37 to clarify that the knowledge requirement referred to in the regulation applies to the employer. In paragraph (d), FMCSA replaces the words “he/she is driving” with “the driver is operating” to update the language.

H. Part 384—State Compliance With Commercial Driver's License Program

Section 384.208 Notification of Disqualification

Section 383.5 defines commercial driver's license (CDL) as a license issued to an individual by a State or other jurisdiction of domicile, in accordance with the standards contained in this part, which authorizes the individual to operate a class of a CMV. In accordance with § 383.23(b)(1), CDLs issued by Canadian Provinces and Territories in conformity with the Canadian National Safety Code and the Licencias Federales de Conductor issued by the United Mexican States are in accordance with the standards of 49 CFR part 383. In § 384.208(a), FMCSA adds the phrase “or other jurisdiction of domicile” after “by another State” and adds the words “or jurisdiction” after “notify the State.” The purpose of these amendments, which reflect current practice, is to conform to the current definition of CDL set forth in § 383.5 and to clarify that the commercial licensing entities in Canada and Mexico are included within the scope of this section.

Section 384.209 Notification of Traffic Violations

In paragraphs (a)(1) and (b)(1) of § 384.209, FMCSA adds the phrase “or other jurisdiction of domicile” after “another State” and adds the words “or jurisdiction” between “the licensing entity in the State” and “where the driver is licensed.” The purpose of these amendments, which reflect current practice, is to conform to the current definition of CDL set forth in § 383.5 and to clarify that the commercial licensing entities in Canada and Mexico are included within the scope of this section, similar to the amendments to § 384.208 above.

I. Part 386—Rules of Practice for FMCSA Proceedings

Agency Proceedings Before the Agency Decisionmaker

FMCSA amends part 386 by replacing “Assistant Administrator” with “Agency Decisionmaker” throughout the part, excluding §§ 386.1 and 386.2. FMCSA amends §§ 386.1 and 386.2 to make similar, section-specific replacements. These amendments specify that administrative proceedings under applicable provisions of the Federal Motor Carrier Safety Regulations (49 CFR parts 350 through 399), including the commercial regulations (49 CFR parts 360 through 379), and the Hazardous Materials Regulations (49 CFR parts 171 through 180) are not necessarily brought before the Assistant Administrator. The statute requiring FMCSA to have an Assistant Administrator, 49 U.S.C. 113(e), does not require that this person act as the Agency Decisionmaker. Replacing the current language is consistent with the Agency's ability to allow another properly appointed official to assume the duties of Agency Decisionmaker when the Assistant Administrator position is vacant or when the Agency determines that this function is better served by a different official. Consequently, this part will be updated to state that such proceedings are before the Agency Decisionmaker, rather than before the Assistant Administrator. FMCSA also amends part 386 to conform the capitalization of the term “Agency Decisionmaker” throughout the part.

Final Order

FMCSA amends part 386 to correct certain instances where the term “Final Agency Order” is used instead of the term “Final Order.” These terms, while similar, are distinguishable in that a Final Order may be reviewed by the Agency Decisionmaker, while a Final Agency Order is typically issued by the Agency Decisionmaker and constitutes FMCSA's final action in a proceeding. The amendment applies to sections where the regulations are intended to refer to an administratively reviewable Final Order rather than a Final Agency Order as defined in § 386.2. The affected sections are §§ 386.14, 386.16, 386.31, 386.36, 386.61, and 386.64. Taking § 386.14 as an example, the document currently described as a “Notice of Default and Final Agency Order” in § 386.14(c)(1) is appealable to the Agency Decisionmaker for review and is therefore not a Final Agency Order when initially issued, thus the terminology must be corrected to read, “Notice of Default and Final Order.” In addition to replacing the term “Final Agency Order” with “Final Order” where necessary to correct this oversight, the Agency also makes minor conforming amendments to §§ 386.14(c)(3) and 386.16(a)(5). The term “Final Agency Order” is retained in sections describing orders that are Final Agency Orders as defined in § 386.2 (see, e.g., § 386.18).

Section 386.1 Scope of the Rules in This Part

FMCSA amends § 386.1(a) and (b) to replace “Assistant Administrator” with “Agency Decisionmaker,” consistent with the replacement amendment applied throughout part 386, described above. The amendment to § 386.1 includes the removal of the description of the Assistant Administrator as FMCSA's Chief Safety Officer, appearing in § 386.1(a), because the section will no longer refer to the Assistant Administrator.

Section 386.2 Definitions

FMCSA amends the definition of “Agency Decisionmaker” in § 386.2. Currently, the Agency Decisionmaker is the Assistant Administrator or any person to whom this decisionmaking authority has been delegated. The amended definition will make clear that other Agency officials may serve as the Agency Decisionmaker, provided they are appointed by the President or otherwise duly authorized. As discussed above, the Assistant Administrator is not statutorily required to serve in this role and FMCSA has the discretion to delegate these functions to another authorized official.

FMCSA deletes the definition of “Assistant Administrator,” as this term will no longer be used interchangeably with the term “Agency Decisionmaker.”

FMCSA amends the definition of “Final Agency Order” to reflect that such orders are issued by the Agency Decisionmaker or another authorized official, in conformance with the amendments discussed above.

Section 386.3 Separation of Functions

FMCSA amends § 386.3 to conform the capitalization of the terms “Agency Decisionmaker” and “Agency Decisionmakers” with the capitalization used throughout the rest of part 386.

Section 386.12 Complaints

FMCSA amends § 386.12 by correcting the telephone number provided for information on filing a written complaint, in each place that the number appears. The telephone number included in this section was inaccurately published as beginning with “1-800,” but in fact begins with “1-888.” The remainder of the telephone number is unchanged.

J. Part 387—Minimum Levels of Financial Responsibility for Motor Carriers

Section 387.9 Financial Responsibility, Minimum Levels

FMCSA amends § 387.9 by adding the words “in bulk” to one of the commodities listed in table 1, to conform the description of that commodity to other commodity descriptions on the list. Section 387.9 specifies minimum levels of financial responsibility that motor carriers must maintain to comply with other sections within part 387 (see 49 CFR 387.7). The level of financial responsibility required depends on the type of carriage and the commodity transported, as shown in table 1 of § 387.9. The second row of the table specifies a combination of carriage type and commodity subject to a $5,000,000 level of financial responsibility.

FMCSA, and FHWA before it, have amended table 1 several times to clarify that the list generally refers to commodities carried in bulk (see 59 FR 63921, 63924 (Dec. 12, 1994), 73 FR 76496 (Dec. 16, 2008), and 86 FR 57060, 57064 (Oct. 14, 2021)). The table previously used various terms to describe the quantities of these commodities and stated that the $5,000,000 level of financial responsibility applied to, among other commodities, in bulk Division 1.1, 1.2, 1.3 materials, Division 2.3, Hazard Zone A, or Division 6.1, Packing Group I, Hazard Zone A material. As part of a later amendment, this list of commodities was broken into multiple clauses and the word “or” omitted. The term “in bulk” was also inadvertently omitted from the new clause containing Division 2.3, Hazard Zone A materials. This commodity should be described as in bulk, the same as the preceding and succeeding items on this list. FMCSA corrects this oversight by prepending the words “in bulk” to Division 2.3, Hazard Zone A material.

K. Part 389—Rulemaking Procedures—Federal Motor Carrier Safety Regulations

Section 389.3 Definitions

FMCSA revises the definition of act in § 389.3 by adding “or commercial activity” to the end of the definition. This revision clarifies that the rulemaking procedures in part 389 apply to the issuance, amendment, and revocation of rules under FMCSA's statutory authority for both motor carrier safety and commercial activities.⁴ The definition of act currently references statutes only covering motor carrier safety. FMCSA's intent and practice, however, is and has been that part 389 applies to rulemaking procedures in all areas of FMCSA's authority, including the Agency's commercial authorities. The lack of reference to commercial authorities is an oversight in § 389.3 that has carried over from predecessor agency regulations.

⁴ FMCSA's commercial household goods regulations in part 375 cite part 389 when referring to procedures required to update regulatory requirements relating to appendix A of part 375 through notice and comment rulemaking (49 CFR 375.213(c)(1)).

When responsibility for administering these commercial authorities was transferred from the ICC to FHWA,⁵ the definition of act should have been updated to include the new authorities under which FHWA was promulgating regulations. However, the new commercial authorities were not formally updated into the definition of act, although nothing in the regulatory history of this section suggests this omission was intended. When the FHWA regulations were transferred to FMCSA, it was an inadvertent oversight for the Agency to not update the definition to include the commercial statutes. In practice, the Agency has treated these regulatory actions the same. Thus, the Agency remedies this ongoing oversight by revising the definition of act to include a reference to FMCSA's commercial statutory authorities to clarify that the provisions in part 389 apply to the issuance, amendment, and revocation of rules under both safety and commercial authorities.

⁵ See the Legal Basis section above for an overview of the relevant statutes that transferred authority for certain provisions from the ICC to FHWA, and subsequently to FMCSA.

Section 389.31 Petitions for Rulemaking

FMCSA amends § 389.31 by correcting a typographical error in the Agency's website address. The published address, “www.FMCSA.gov,” is incorrect and FMCSA replaces it with the correct address, which is “www.FMCSA.dot.gov.”

L. Part 390—Federal Motor Carrier Safety Regulations; General

Sections 390.5 (Suspended) and 390.5T Definitions ⁶

⁶ On January 17, 2017, FMCSA suspended certain regulations relating to the electronic Unified Registration System and delayed their effective date indefinitely (82 FR 5292). The suspended regulations were replaced by temporary provisions that contain the requirements in place on January 13, 2017. Section 390.5 was one of the sections suspended and § 390.5T, which is currently in effect, was one of the replacement sections added (82 FR 5299).

FMCSA revises the definition of employer in §§ 390.5 (suspended) and 390.5T by replacing the word “terms” with “term” to correct a typographical error. The word “term” is meant to refer to the term “employer” in the singular.

FMCSA revises the definition of medical variance in §§ 390.5 (suspended) and 390.5T by removing the words “or § 391.64 of this chapter” in paragraph (1) of the definition. Section 391.64 provided a basis for an exemption from the Agency's vision standard for certain drivers who participated in FMCSA's Vision Waiver Study Program conducted in the 1990s. On January 21, 2022, FMCSA published a final rule adopting an alternative vision standard for individuals to be medically certified to operate CMVs in interstate commerce (87 FR 3390). The rule also eliminated physical qualification under § 391.64 as of March 22, 2023 (87 FR 7756, Feb. 10, 2022). Because this date has passed, FMCSA removes the obsolete reference to medical certification under § 391.64 from the definition. In addition, FMCSA adds the word “or” to the end of paragraph (1) of the definition to make the list grammatically correct and reflect that either of the documents listed is included in the definition, as indicated in the introductory paragraph of the term.

FMCSA revises the definition of special agent in §§ 390.5 (suspended) and 390.5T by replacing “appendix B to subchapter B—Special agents” and “appendix B to this subchapter—Special agents,” respectively, with “appendix B to this part.” This change reflects the redesignation of appendix B to subchapter B of chapter III discussed above in section III.A. The redesignation appends the Special Agents material to part 390, the part to which it most directly pertains.

Section 390.25 Extension of Relief From Regulations—Emergencies

FMCSA revises § 390.25 by replacing the words “he or she” with the word “it” in the last sentence of the section. This amendment also corrects an error from a previous technical amendment. In FMCSA's technical amendments rule published October 14, 2021, the Agency replaced the term “the FMCSA Field Administrator” with the term “FMCSA,” and a corresponding edit should have been made to replace “he or she” with “it” in the same sentence (see 86 FR 57060, 57064-65, Oct. 14, 2021). This amendment corrects that oversight.

Section 390.27 Locations of Motor Carrier Safety Service Centers

FMCSA revises § 390.27 to change the address of the Southern Service Center from 1800 Century Boulevard, Suite 1700, Atlanta, Georgia 30345-3220, to 61 Forsyth Street SW, Suite 3M40, Atlanta, GA 30303. The Southern Service Center moved in May 2021, requiring this update to remove the obsolete address.

M. Part 391—Qualifications of Drivers and Longer Combination Vehicle (LCV) Driver Instructors

Section 391.23 Investigation and Inquiries

FMCSA revises § 391.23 to clarify that the initial motor vehicle record (MVR) required by § 391.23(a) is to cover the prior 3 years. This revision addresses an inadvertent error in a previous rulemaking titled, “Medical Certification Requirements as Part of the CDL,” published at 73 FR 73095 (Dec. 1, 2008). FMCSA's intention in that rulemaking was to revise paragraph (a)(1) to use the terms “State driver license agency” and “motor vehicle record” (73 FR 73113). Prior to the rule, paragraph (a)(1) read, “An inquiry into the driver's driving record during the preceding 3 years to the appropriate agency of every State in which the driver held a motor vehicle operator's license or permit during those 3 years; and.” The rule revised the paragraph to read “An inquiry to each State where the driver held or holds a motor vehicle operator's license or permit during the preceding 3 years to obtain that driver's motor vehicle record.” The rulemaking provided no mention of, nor rationale for, the removal of the language requiring the initial MVR to cover the prior 3 years.

FMCSA now fixes this unintentional deletion by adding “covering that driver's prior 3-year driving history” to the end of paragraph (a)(1). The accidental removal of the language in the 2008 rule has not changed how the 3-year requirement has been applied since 2008, but FMCSA believes adding that language back to paragraph (a)(1) increases clarity for regulated entities.

Section 391.43 Medical Examination; Certificate of Physical Examination

FMCSA amends three paragraphs in § 391.43 to remove obsolete references to medical certification under § 391.64. As noted above, § 391.64 provided a basis for an exemption from the Agency's vision standard for certain drivers who participated in FMCSA's Vision Waiver Study Program conducted in the 1990s. On January 21, 2022, FMCSA published a final rule adopting an alternative vision standard for individuals to be medically certified to operate CMVs in interstate commerce (87 FR 3390). The rule also eliminated physical qualification under § 391.64 as of March 22, 2023 (87 FR 7756, Feb. 10, 2022).

FMCSA revises § 391.43 by removing and reserving paragraph (e). Paragraph (e) relates only to drivers medically certified under § 391.64.

In paragraph (f), FMCSA changes the Medical Examination Report Form, MCSA-5875, by removing the option for medical certification under § 391.64 in the “Medical Examiner Determination (Federal)” section. Use of the revised form will become effective 60 days after this rule is published to provide sufficient time for the public to make any necessary information technology changes.

In paragraph (h), FMCSA changes the Medical Examiner's Certificate, Form MCSA-5876, by removing the option for medical certification under § 391.64 in the first section on the form. Use of the revised form will become effective 60 days after this rule is published to provide sufficient time for the public to make any necessary information technology changes.

Section 391.45 Persons Who Must Be Medically Examined and Certified

FMCSA revises § 391.45 by removing and reserving paragraph (d). Paragraph (d) relates only to drivers medically certified under § 391.64. As previously noted, § 391.64 provided a basis for an exemption from the Agency's vision standard for certain drivers who participated in FMCSA's Vision Waiver Study Program conducted in the 1990s. On January 21, 2022, FMCSA published a final rule adopting an alternative vision standard for individuals to be medically certified to operate CMVs in interstate commerce (87 FR 3390). The rule also eliminated physical qualification under § 391.64 as of March 22, 2023 (87 FR 7756, Feb. 10, 2022). Because this date has passed, FMCSA removes the obsolete reference to medical certification under § 391.64.

Section 391.47 Resolution of Conflicts of Medical Evaluation

FMCSA amends § 391.47 to reflect current Agency terminology and eligibility to conduct a driver physical qualification examination. Section 391.47 provides a process to resolve conflicting medical certification determinations between the medical examiner for the driver and the medical examiner for the motor carrier. When § 391.47 was adopted in 1970, the term “medical examiner” was used in § 391.47 to describe the individuals who conducted the physical qualification examination (35 FR 6458, Apr. 22, 1970). At that time, § 391.43(a) provided that only a physician, i.e., a licensed doctor of medicine or osteopathy, was allowed to conduct such examinations. In 1977, § 391.47 was completely rewritten and an opinion by an impartial medical specialist in the field in which the medical conflict arose was added to the process (42 FR 18076, Apr. 5, 1977). The term “physician” was used throughout the revised section to replace medical examiner and to include the impartial medical specialist. The intent was to ensure that the medical specialist was well qualified. The relevant provisions of § 391.47 have not been revised since 1977.

Over time, the categories of medical professionals eligible to conduct physical qualification examinations have expanded and the term used to describe them has changed. In 1992, a new definition of health care professional was added to § 390.5 (57 FR 33276, July 28, 1992). The term was defined as a person who is licensed, certified, and/or registered, in accordance with applicable State laws and regulations, to perform physical examinations. It included, but was not limited to, doctors of medicine, doctors of osteopathy, physician assistants, advanced practice nurses, and doctors of chiropractic. Section 391.43(a)(1) was amended to provide that the physical qualification examination must be performed by a licensed health care professional as defined in § 390.5.

In 1993, §§ 390.5 and 391.43 were amended with a technical amendment that changed the term “health care professional” wherever it appeared back to the previous usage of “medical examiner” without a change to the definition (58 FR 59194, Nov. 8, 1993). In 2012, the definition of medical examiner in § 390.5 was amended with respect to physical qualification examinations conducted on and after May 21, 2014, to mean an individual certified by FMCSA and listed on the National Registry of Certified Medical Examiners in accordance with 49 CFR part 390 (77 FR 24104, Apr. 20, 2012). New § 390.103(a)(1) provides the professional licensure requirements for medical examiner eligibility, which are essentially the same as those in the prior definition of medical examiner.

Section 391.47 was inadvertently overlooked when these changes occurred; therefore, FMCSA amends § 391.47 to conform to current Agency terminology and medical examiner eligibility. In paragraphs (b)(1) and (7), FMCSA changes “physicians” to “medical examiners and medical specialists.” In paragraph (b)(2), FMCSA changes “physician” to “medical examiner” each place that it appears.

In addition, FMCSA revises § 391.47 by removing the mail stop “MC-PS” in each place that it appears. This amendment corrects an inadvertent error from a previous technical amendment. In FMCSA's technical amendments rule published October 14, 2021, the Agency simplified many sections across various parts of the CFR to remove or otherwise update references to specific titles or offices to provide greater flexibility in delegations (86 FR 57060). The Agency replaced references to the Office of Carrier, Driver and Vehicle Safety Standards and its Director with the term “FMCSA,” but failed to remove the corresponding mail stop (86 FR 57074). This amendment corrects that oversight in § 391.47(c), (d)(1) and (2), and (f) by removing the reference to “MC-PS.”

N. Part 395—Hours of Service of Drivers

Section 395.2 Definitions

FMCSA amends the definition of utility service vehicle provided in § 395.2 by adding broadband-internet and cellular telephone operations as examples of public utilities in paragraph (1) of the definition. The definition of utility service vehicle in § 395.2 is used in part 391 as part of the hours of service regulations. The definition provides a non-exhaustive list of public utilities in paragraph (1) as an illustration of which CMVs should be considered utility service vehicles. Broadband-internet and cellular telephone operations are public utilities, as evidenced by the Federal Communication Commission's classification of these services as public utilities. Many CMVs are used to repair, maintain, and operate facilities necessary for the delivery of broadband-internet and cellular telephone operations. Given the prevalence of these operations and associated vehicles, FMCSA amends the list of public utilities in § 395.2 by adding broadband-internet and cellular telephone operations.

Section 395.13 Drivers Ordered Out of Service

FMCSA replaces “appendix B to this subchapter” with “appendix B to part 390” in paragraph (a). This change reflects the redesignation of appendix B to subchapter B of chapter III discussed above in section III.A. The redesignation appends the Special Agents material to part 390, the part to which it most directly pertains.

O. Part 396—Inspection, Repair, and Maintenance

Section 396.9 Inspection of Motor Vehicles and Intermodal Equipment in Operation

FMCSA replaces “appendix B to this subchapter” with “appendix B to part 390” in paragraph (a). This change reflects the redesignation of appendix B to subchapter B of chapter III discussed above in section III.A. The redesignation appends the Special Agents material to part 390, the part to which it most directly pertains.

P. Part 398—Transportation of Migrant Workers

Section 398.8 Administration Inspection of Motor Vehicles in Operation

FMCSA replaces “Appendix B of chapter III of this title” with “appendix B to part 390” in paragraph (a). This paragraph references the Special Agents appendix, although it incorrectly describes the appendix as appended to chapter III rather than subchapter B. FMCSA amends this section to reflect the redesignation of appendix B to subchapter B of chapter III discussed above in section III.A. The redesignation appends the Special Agents material to part 390, the part to which it most directly pertains.

IV. Regulatory Analyses

A. Executive Order (E.O.) 12866 (Regulatory Planning and Review), E.O. 13563 (Improving Regulation and Regulatory Review), E.O. 14094 (Modernizing Regulatory Review), and DOT Regulatory Policies and Procedures

FMCSA has considered the impact of this final rule under E.O. 12866 (58 FR 51735, Oct. 4, 1993), Regulatory Planning and Review, E.O. 13563 (76 FR 3821, Jan. 21, 2011), Improving Regulation and Regulatory Review, and by E.O. 14094 (88 FR 21879, Apr. 11, 2023), Modernizing Regulatory Review. The Office of Information and Regulatory Affairs (OIRA) within the Office of Management and Budget (OMB) determined that this final rule is not a significant regulatory action under section 3(f) of E.O. 12866, as supplemented by E.O. 13563 and E.O. 14094, and does not require an assessment of potential costs and benefits under section 6(a)(3) of that order. Accordingly, OMB has not reviewed it under that E.O. In addition, this rule is not significant within the meaning of DOT regulations (49 CFR 5.13(a)). The amendments made in this final rule primarily correct inadvertent errors and omissions, remove or update obsolete references, and make minor language changes to improve clarity and consistency. Some changes are statutorily mandated or relate to previous changes that were statutorily mandated. In accommodating those changes, the Agency is performing nondiscretionary, ministerial acts. Other changes merely align regulatory requirements with the underlying statutory authority. None of the changes in this final rule impose new material requirements or increase compliance obligations; therefore, this final rule imposes no new costs and a full regulatory evaluation is unnecessary.

B. Congressional Review Act

This rule is not a major rule as defined under the Congressional Review Act (5 U.S.C. 801-808).⁷

⁷ A major rule means any rule that the Office of Management and Budget finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 802(4)).

C. Regulatory Flexibility Act (Small Entities)

Under the Regulatory Flexibility Act of 1980 (5 U.S.C. 601-612), FMCSA is not required to complete a regulatory flexibility analysis because, as discussed earlier in the Legal Basis for the Rulemaking section, this action is not subject to notice and public comment under section 553(b) of the APA.

D. Assistance for Small Entities

In accordance with section 213(a) of the Small Business Regulatory Enforcement Fairness Act of 1996 (Pub. L. 104-121, 110 Stat. 857, Mar. 29, 1996), FMCSA wants to assist small entities in understanding this final rule so they can better evaluate its effects on themselves and participate in the rulemaking initiative. If the final rule will affect your small business, organization, or governmental jurisdiction and you have questions concerning its provisions or options for compliance; please consult the person listed under the FOR FURTHER INFORMATION CONTACT section of this final rule.

Small businesses may send comments on the actions of Federal employees who enforce or otherwise determine compliance with Federal regulations to the Small Business Administration's Small Business and Agriculture Regulatory Enforcement Ombudsman and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

E. Unfunded Mandates Reform Act of 1995

The Unfunded Mandates Reform Act of 1995 (2 U.S.C. 1531-1538) requires Federal agencies to assess the effects of their discretionary regulatory actions. In particular, the Act addresses actions that may result in the expenditure by a State, local, or Tribal government, in the aggregate, or by the private sector of $192 million (which is the value equivalent of $100 million in 1995, adjusted for inflation to 2022 levels) or more in any 1 year. This final rule will not result in such an expenditure.

F. Paperwork Reduction Act

This final rule contains no new information collection requirements under the Paperwork Reduction Act of 1995 (44 U.S.C. 3501-3520).

G. E.O. 13132 (Federalism)

A rule has implications for federalism under section 1(a) of E.O. 13132 if it has “substantial direct effects on the States, on the relationship between the national government and the States, or on the distribution of power and responsibilities among the various levels of government.” FMCSA has determined that this rule will not have substantial direct costs on or for States, nor will it limit the policymaking discretion of States. Nothing in this document preempts any State law or regulation. Therefore, this rule does not have sufficient federalism implications to warrant the preparation of a Federalism Impact Statement.

H. Privacy

Section 522 of title I of division H of the Consolidated Appropriations Act, 2005 (Pub. L. 108-447, 118 Stat. 2809, 3268, Dec. 8, 2004 (5 U.S.C. 552a note)), requires the Agency to conduct a privacy impact assessment of a regulation that will affect the privacy of individuals. Because this rule does not require the collection of personally identifiable information, the Agency is not required to conduct a privacy impact assessment.

The Privacy Act (5 U.S.C. 552a) applies only to Federal agencies and any non-Federal agency that receives records contained in a system of records from a Federal agency for use in a matching program.

The E-Government Act of 2002 (Pub. L. 107-347, sec. 208, 116 Stat. 2899, 2921, Dec. 17, 2002), requires Federal agencies to conduct a privacy impact assessment for new or substantially changed technology that collects, maintains, or disseminates information in an identifiable form. No new or substantially changed technology will collect, maintain, or disseminate information as a result of this rule. Accordingly, FMCSA has not conducted a privacy impact assessment.

I. E.O. 13175 (Indian Tribal Governments)

This rule does not have Tribal implications under E.O. 13175, Consultation and Coordination with Indian Tribal Governments, because it does not have a substantial direct effect on one or more Indian Tribes, on the relationship between the Federal Government and Indian Tribes, or on the distribution of power and responsibilities between the Federal Government and Indian Tribes.

J. National Environmental Policy Act of 1969

FMCSA analyzed this rule pursuant to the National Environmental Policy Act of 1969 (42 U.S.C. 4321 et seq.) and determined this action is categorically excluded from further analysis and documentation in an environmental assessment or environmental impact statement under FMCSA Order 5610.1 (69 FR 9680 (Mar. 1, 2004)), Appendix 2, paragraph 6.b and c. These Categorical Exclusions address technical amendments and other minor amendments such as those found in this rulemaking, as well as regulations concerning internal agency functions, organization or personnel administration. Therefore, preparation of an environmental assessment or environmental impact statement is not necessary.

List of Subjects

49 CFR Part 325

Motor carriers, Noise control.

49 CFR Part 365

Administrative practice and procedure, Brokers, Buses, Freight forwarders, Maritime carriers, Mexico, Motor carriers, Moving of household goods.

49 CFR Part 368

Administrative practice and procedure, Mexico, Motor carriers.

49 CFR Part 369

Motor carriers, Reporting and recordkeeping requirements.

49 CFR Part 371

Brokers, Motor carriers, Reporting and recordkeeping requirements.

49 CFR Part 375

Advertising, Consumer protection, Freight, Highways and roads, Insurance, Motor carriers, Moving of household goods, Reporting and recordkeeping requirements.

49 CFR Part 378

Freight forwarders, Investigations, Motor carriers, Moving of household goods.

49 CFR Part 381

Motor carriers.

49 CFR Part 382

Administrative practice and procedure, Alcohol abuse, Drug abuse, Drug testing, Highway safety, Motor carriers, Penalties, Safety, Transportation.

49 CFR Part 383

Administrative practice and procedure, Alcohol abuse, Drug abuse, Drug testing, Highway safety, Motor carriers, Penalties, Safety, Transportation.

49 CFR Part 384

Administrative practice and procedure, Alcohol abuse, Drug abuse, Highway safety, Motor carriers.

49 CFR Part 385

Administrative practice and procedure, Highway safety, Mexico, Motor carriers, Motor vehicle safety, Reporting and recordkeeping requirements.

49 CFR Part 386

Administrative practice and procedure, Brokers, Freight forwarders, Hazardous materials transportation, Highway safety, Highways and roads, Motor carriers, Motor vehicle safety, Penalties.

49 CFR Part 387

Buses, Freight, Freight forwarders, Hazardous materials transportation, Highway safety, Insurance, Intergovernmental relations, Motor carriers, Motor vehicle safety, Moving of household goods, Penalties, Reporting and recordkeeping requirements, Surety bonds.

49 CFR Part 389

Administrative practice and procedure, Highway safety, Motor carriers, Motor vehicle safety.

49 CFR Part 390

Highway safety, Intermodal transportation, Motor carriers, Motor vehicle safety, Reporting and recordkeeping requirements.

49 CFR Part 391

Alcohol abuse, Drug abuse, Drug testing, Highway safety, Motor carriers, Reporting and recordkeeping requirements, Safety, Transportation.

49 CFR Part 395

Highway safety, Motor carriers, Reporting and recordkeeping requirements.

49 CFR Part 396

Highway safety, Motor carriers, Motor vehicle safety, Reporting and recordkeeping requirements.

49 CFR Part 398

Highway safety, Migrant labor, Motor carriers, Motor vehicle safety, Reporting and recordkeeping requirements.

In consideration of the foregoing, FMCSA amends 49 CFR chapter III as set forth below:

PART 325—COMPLIANCE WITH INTERSTATE MOTOR CARRIER NOISE EMISSION STANDARDS

1. The authority citation for part 325 continues to read as follows:

Authority: 42 U.S.C. 4917; 49 U.S.C. 301; and 49 CFR 1.87.

2. Amend § 325.13 by, in paragraph (a):

a. Adding a heading; and

b. Removing the words “appendix B to subchapter B” and adding in their place “appendix B to part 390 of this chapter”.

§ 325.13 Inspection and examination of motor vehicles.

(a) Authority. * * *

* * * * *

Appendix A to Subchapter B of Chapter III [Removed]

3. Under the authority of 44 U.S.C. 1505 and 1510, remove reserved appendix A to subchapter B of chapter III.

Appendix B to Subchapter B of Chapter III [Redesignated as Appendix B to Part 390]

4. Under the authority of 49 U.S.C. 113, redesignate appendix B to subchapter B of chapter III as appendix B to part 390.

Appendices C Through E to Subchapter B of Chapter III [Removed]

5. Under the authority of 44 U.S.C. 1505 and 1510, remove reserved appendices C through E to subchapter B of chapter III.

PART 365—RULES GOVERNING APPLICATIONS FOR OPERATING AUTHORITY

6. The authority citation for part 365 continues to read as follows:

Authority: 5 U.S.C. 553 and 559; 49 U.S.C. 13101, 13301, 13901-13906, 13908, 14708, 31133, 31138, and 31144; 49 CFR 1.87.

§ 365.105 [Amended]

7. Amend § 365.105 by:

a. Lifting the suspension of the section;

b. In paragraph (c), removing “Web site” and “http” and in their places adding “website” and “https”, respectively; and

c. Suspending the section indefinitely.

§ 365.106T [Amended]

8. Amend § 365.106T by, in paragraph (c), removing “Web site” and “http” and in their places adding “website” and “https”, respectively.

Subpart D [Suspension Lifted]

9. Lift the suspension of subpart D, consisting of §§ 365.401 through 365.405.

§§ 365.401, 365.403, and 365.405 [Suspended]

10. Suspend §§ 365.401, 365.403, and 365.405 indefinitely.

§ 365.503 [Amended]

11. Amend § 365.503 by, in paragraph (d), removing “Web site” and “http” and in their places adding “website” and “https”, respectively.

PART 368—APPLICATION FOR A CERTIFICATE OF REGISTRATION TO OPERATE IN MUNICIPALITIES IN THE UNITED STATES ON THE UNITED STATES-MEXICO INTERNATIONAL BORDER OR WITHIN THE COMMERCIAL ZONES OF SUCH MUNICIPALITIES

12. The authority citation for part 368 continues to read as follows:

Authority: 49 U.S.C. 13301, 13902, 13908; Pub. L. 106-159, 113 Stat. 1748; and 49 CFR 1.87.

§ 368.3 [Amended]

13. Amend § 368.3 by:

a. Lifting the suspension of the section;

b. In paragraph (f), removing “Web site” and “http” and in their places adding “website” and “https”, respectively; and

c. Suspending the section indefinitely.

§ 368.3-1T [Amended]

14. Amend § 368.3-1T by, in paragraph (c), removing “Web site” and “http” and in their places adding “website” and “https”, respectively.

§ 368.3T [Amended]

15. Amend § 368.3T by, in paragraph (f), removing “Web site” and “http” and in their places adding “website” and “https”, respectively.

PART 369—REPORTS OF MOTOR CARRIERS

16. The authority citation for part 369 continues to read as follows:

Authority: 49 U.S.C. 14123; 49 CFR 1.87.

§ 369.1 [Amended]

17. Amend § 369.1 by, in paragraph (b), removing “Web site” and “http” and in their places adding “website” and “https”, respectively.

PART 371—BROKERS OF PROPERTY

18. The authority citation for part 371 continues to read as follows:

Authority: 49 U.S.C. 13301, 13501, and 14122; subtitle B, title IV of Pub. L. 109-59; and 49 CFR 1.87.

§ 371.107 [Amended]

19. Amend § 371.107 by:

a. Removing the words “Web site(s)” wherever they appear and in their place adding the word “website(s)”; and

b. In paragraph (e), removing “of this part”.

§ 371.111 [Amended]

20. Amend § 371.111 by, in paragraph (a)(1), removing the words “Web site” and in their place adding the word “website”.

§ 371.117 [Amended]

21. Amend § 371.117 by, in paragraph (a), removing the words “Web site” and in their place adding the word “website”.

PART 375—TRANSPORTATION OF HOUSEHOLD GOODS IN INTERSTATE COMMERCE; CONSUMER PROTECTION REGULATIONS

22. The authority citation for part 375 continues to read as follows:

Authority: 49 U.S.C. 13102, 13301, 13501, 13704, 13707, 13902, 14104, 14706, 14708; subtitle B, title IV of Pub. L. 109-59; and 49 CFR 1.87.

§ 375.103 [Amended]

23. Amend § 375.103 by:

a. In the definition of “Advertisement”, removing the words “Web site” and in their place adding the word “website”; and

b. In the definition of “Tariff”, removing “§ 1312.3(a)” and adding in its place “§ 1310.3(a)”.

§ 375.213 [Amended]

24. Amend § 375.213 by, in paragraph (d), removing the words “Web site” and in their place adding the word “website”.

25. Amend § 375.403 by revising paragraph (a)(6)(ii) and the first sentence of paragraph (b) to read as follows:

§ 375.403 How must I provide a binding estimate?

(a) * * *

(6) * * *

(ii) Prepare a new binding estimate prior to loading. The new estimate must accurately list, in detail, the additional household goods or services included in the shipment. The new estimate must be signed by the individual shipper. You should maintain a record of the date, time, and manner that the new estimate was prepared.

* * * * *

(b) In accordance with § 375.401(b)(1), you may impose a charge for providing a written binding estimate. * * *

* * * * *

26. Amend § 375.405 by revising paragraph (b)(7)(ii) to read as follows:

§ 375.405 How must I provide a non-binding estimate?

* * * * *

(b) * * *

(7) * * *

(ii) Prepare a new non-binding estimate which must be signed by the individual shipper. The new estimate must accurately list, in detail, the additional household goods or services included in the shipment. You should maintain a record of the date, time, and manner that the new estimate was prepared.

* * * * *

§ 375.505 [Amended]

27. Amend § 375.505 by, in paragraph (b)(4), removing the words “order for service” and in their place adding the words “bill of lading”.

PART 378—PROCEDURES GOVERNING THE PROCESSING, INVESTIGATION, AND DISPOSITION OF OVERCHARGE, DUPLICATE PAYMENT, OR OVERCOLLECTION CLAIMS

28. The authority citation for part 378 continues to read as follows:

Authority: 49 U.S.C. 13321, 14101, 14704 and 14705; and 49 CFR 1.87.

§ 378.2 [Amended]

29. Amend § 378.2 by, in paragraph (d), removing the words “United States Department of Transportation's”.

PART 381—WAIVERS, EXEMPTIONS, AND PILOT PROGRAMS

30. The authority citation for part 381 continues to read as follows:

Authority: 49 U.S.C. 31136(e), 31315; and 49 CFR 1.87.

31. Revise § 381.225 to read as follows:

§ 381.225 Who should I contact if I have questions about the information I am required to submit to FMCSA or about the status of my request for a waiver?

You should contact the Federal Motor Carrier Safety Administration, Office of Carrier, Driver & Vehicle Safety (MC-PS), 1200 New Jersey Ave. SE, Washington, DC 20590-0001.

32. Amend § 381.315 by revising the section heading, paragraph (b), and the first sentences of paragraphs (d)(1) and (2) to read as follows:

§ 381.315 What will FMCSA do after the agency receives my application for an exemption?

* * * * *

(b) After a review of the comments received in response to the Federal Register notice described in paragraph (a) of this section, the Federal Motor Carrier Safety Administration will make a recommendation(s) to the Administrator either to grant or to deny the exemption. Notice of the Administrator's decision will be published in the Federal Register.

* * * * *

(d) * * *

(1) Interested parties may view the information contained in the docket by visiting Dockets Operations, U.S. Department of Transportation, 1200 New Jersey Avenue SE, West Building, Ground Floor, Washington, DC 20590-0001. * * *

(2) Internet users can access all information received by Dockets Operations, U.S. Department of Transportation by using the Federal Docket Management System using the uniform resources locator (URL): https://www.regulations.gov. * * *

PART 382—CONTROLLED SUBSTANCES AND ALCOHOL USE AND TESTING

33. The authority citation for part 382 continues to read as follows:

Authority: 49 U.S.C. 31133, 31136, 31301 et seq., 31502; sec. 32934 of Pub. L. 112-141, 126 Stat. 405, 830; and 49 CFR 1.87.

34. Amend § 382.107 by removing the definition of “Consortium/Third party administrator” and adding in its place the definition of “Consortium/Third-party administrator” to read as follows:

§ 382.107 Definitions.

* * * * *

Consortium/Third-party administrator (C/TPA) means a service agent that provides or coordinates one or more drug and/or alcohol testing services to DOT-regulated employers. C/TPAs typically provide or coordinate the provision of a number of such services and perform administrative tasks concerning the operation of the employers' drug and alcohol testing programs. This term includes, but is not limited to, groups of employers who join together to administer, as a single entity, the DOT drug and alcohol testing programs of its members (e.g., having a combined random testing pool). C/TPAs are not “employers” for purposes of this part, except as provided in § 382.705(c).

* * * * *

§ 382.213 [Amended]

35. Amend § 382.213 by:

a. In paragraph (b), removing the words “pursuant to the instructions of a licensed medical practitioner” and in their place adding the words “prescribed by a licensed medical practitioner”; and

b. In paragraph (c):

i. Adding the words “, as defined in § 382.107,” after the words “controlled substance”; and

ii. Adding the words “, except when the use is prescribed by a licensed medical practitioner, as defined in § 382.107, who is familiar with the driver's medical history and has advised the driver that the substance will not adversely affect the driver's ability to safely operate a commercial motor vehicle” to the end of the paragraph.

§ 382.217 [Amended]

36. Amend § 382.217 by, in paragraph (e)(3), adding the words “, except when the use is prescribed by a licensed medical practitioner who is familiar with the driver's medical history and has advised the driver that the substance will not adversely affect the driver's ability to safely operate a commercial motor vehicle” after the words “controlled substance”.

§ 382.401 [Amended]

37. Amend § 382.401 by, in paragraph (c)(6)(i), removing the words “third party” and in their place adding the word “third-party”.

§ 382.403 [Amended]

38. Amend § 382.403 by, in paragraph (e), removing the words “Consortium/Third party administrator” and in their place adding the words “Consortium/Third-party administrator”.

§ 382.409 [Amended]

39. Amend § 382.409 by:

a. Removing the words “consortium/third party administrator” in each place they appear and in their place adding the words “consortium/third-party administrator”; and

b. Removing the words “third party administrator” in each place they appear and in their place adding the words “third-party administrator”.

§ 382.711 [Amended]

40. Amend § 382.711 by, in paragraph (d) introductory text, removing the words “consortium/third party administrator” and in their place adding the words “consortium/third-party administrator”.

PART 383—COMMERCIAL DRIVER'S LICENSE STANDARDS; REQUIREMENTS AND PENALTIES

41. The authority citation for part 383 continues to read as follows:

Authority: 49 U.S.C. 521, 31136, 31301 et seq., and 31502; secs. 214 and 215 of Pub. L. 106-159, 113 Stat. 1748, 1766, 1767; sec. 1012(b) of Pub. L. 107-56, 115 Stat. 272, 297, sec. 4140 of Pub. L. 109-59, 119 Stat. 1144, 1746; sec. 32934 of Pub. L. 112-141, 126 Stat. 405, 830; sec. 23019 of Pub. L. 117-58, 135 Stat. 429, 777; and 49 CFR 1.87.

§ 383.5 [Amended]

42. Amend § 383.5 by removing the words “Third party” and “third party” in each place they appear and in their places adding the words “Third-party” and “third-party”, respectively.

§ 383.25 [Amended]

43. Amend § 383.25 by, in paragraph (a)(1), adding the words “and is otherwise authorized to operate the CMV for that trip” after the words “necessary to operate the CMV”.

§ 383.37 [Amended]

44. Amend § 383.37 by:

a. In the introductory text, removing the words “he or she” and in their place adding the words “the employer”; and

b. In paragraph (d), removing the words “he/she is driving” and in their place adding the words “the driver is operating”.

45. Amend § 383.75 by revising the section heading and paragraphs (a) introductory text, (a)(2) through (4), (a)(5) introductory text, (a)(5)(ii), (a)(6), (a)(8)(ii), (a)(8)(iii)(B), (a)(8)(iv) through (viii), (a)(8)(ix) introductory text, (a)(8)(ix)(A) through (C), (E), and (F), (b), and (c) to read as follows:

§ 383.75 Third-party testing.

(a) Third-party tests. A State may authorize a third-party tester to administer the skills tests as specified in subparts G and H of this part, if the following conditions are met:

* * * * *

(2) The State must conduct an on-site inspection of each third-party tester at least once every 2 years, with a focus on examiners with irregular results such as unusually high or low pass/fail rates;

(3) The State must issue the third-party tester a CDL skills testing certificate upon the execution of a third-party skills testing agreement;

(4) The State must issue each third-party CDL skills test examiner a skills testing certificate upon successful completion of a formal skills test examiner training course prescribed in § 384.228 of this chapter;

(5) The State must, at least once every 2 years, do one of the following for each third-party examiner:

* * * * *

(ii) Have State employees co-score along with the third-party examiner during CDL skills tests to compare pass/fail results; or

* * * * *

(6) The State must take prompt and appropriate remedial action against a third-party tester that fails to comply with State or Federal standards for the CDL testing program, or with any other terms of the third-party contract;

* * * * *

(8) * * *

(ii) Require that all third-party skills test examiners meet the qualification and training standards of § 384.228 of this chapter;

(iii) * * *

(B) Have State employees co-score along with the third-party examiner during CDL skills tests to compare pass/fail results; or

* * * * *

(iv) Reserve unto the State the right to take prompt and appropriate remedial action against a third-party tester that fails to comply with State or Federal standards for the CDL testing program, or with any other terms of the third-party contract;

(v) Require the third-party tester to initiate and maintain a bond in an amount determined by the State to be sufficient to pay for re-testing drivers in the event that the third party or one or more of its examiners is involved in fraudulent activities related to conducting skills testing of applicants for a CDL. Exception: A third-party tester that is a government entity is not required to maintain a bond;

(vi) Require the third-party tester to use only CDL skills examiners who have successfully completed a formal CDL skills test examiner training course as prescribed by the State and have been certified by the State as a CDL skills examiner qualified to administer CDL skills tests;

(vii) Require the third-party tester to use designated road test routes that have been approved by the State;

(viii) Require the third-party tester to submit a schedule of CDL skills testing appointments to the State no later than two business days prior to each test; and

(ix) Require the third-party tester to maintain copies of the following records at its principal place of business:

(A) A copy of the State certificate authorizing the third-party tester to administer a CDL skills testing program for the classes and types of commercial motor vehicles listed;

(B) A copy of each third-party examiner's State certificate authorizing the third-party examiner to administer CDL skills tests for the classes and types of commercial motor vehicles listed;

(C) A copy of the current third-party agreement;

* * * * *

(E) A copy of the third-party tester's State-approved road test route(s); and

(F) A copy of each third-party examiner's training record.

(b) Proof of testing by a third party. The third-party tester must notify the State driver licensing agency through secure electronic means when a driver applicant passes skills tests administered by the third-party party tester.

(c) Minimum number of tests conducted. The State must revoke the skills testing certification of any examiner who does not conduct skills test examinations of at least 10 different applicants per calendar year. Exception: Examiners who do not meet the 10-test minimum must either take the refresher training specified in § 384.228 of this chapter or have a State examiner ride along to observe the third-party examiner successfully administer at least one skills test.

PART 384—STATE COMPLIANCE WITH COMMERCIAL DRIVER'S LICENSE PROGRAM

46. The authority citation for part 384 continues to read as follows:

Authority: 49 U.S.C. 31136, 31301, et seq., and 31502; secs. 103 and 215 of Pub. L. 106-159, 113 Stat. 1748, 1753, 1767; sec. 32934 of Pub. L. 112-141, 126 Stat. 405, 830; sec. 5524 of Pub. L. 114-94, 129 Stat. 1312, 1560; and 49 CFR 1.87.

47. Amend § 384.208 by revising paragraph (a) to read as follows:

§ 384.208 Notification of disqualification.

(a) No later than 10 days after disqualifying a CLP or CDL holder licensed by another State or other jurisdiction of domicile, or disqualifying an out-of-State CLP or CDL holder's privilege to operate a commercial motor vehicle for at least 60 days, the State must notify the State or jurisdiction that issued the license of the disqualification via CDLIS.

* * * * *

48. Amend § 384.209 by revising paragraphs (a)(1) and (b)(2) to read as follows:

§ 384.209 Notification of traffic violations.

(a) * * *

(1) Whenever a person who holds a CLP or CDL from another State or other jurisdiction of domicile is convicted of a violation of any State or local law relating to motor vehicle traffic control (other than parking, vehicle weight or vehicle defect violations), in any type of vehicle, the licensing entity of the State in which the conviction occurs must notify the licensing entity in the State or jurisdiction where the driver is licensed of this conviction within the time period established in paragraph (c) of this section.

* * * * *

(b) * * *

(1) Whenever a person who does not hold a CDL, but who is licensed to drive by another State or other jurisdiction of domicile, is convicted of a violation in a CMV of any State or local law relating to motor vehicle traffic control (other than a parking violation), the licensing entity of the State in which the conviction occurs must notify the licensing entity in the State or jurisdiction where the driver is licensed of this conviction within the time period established in paragraph (c) of this section.

* * * * *

§ 384.228 [Amended]

49. Amend § 384.228 by removing the words “third party” in each place they appear and in their place adding the words “third-party”.

§ 384.229 [Amended]

50. Amend § 384.229 by removing the words “third party” in each place they appear and in their place adding the words “third-party”.

PART 385—SAFETY FITNESS PROCEDURES

51. The authority citation for part 385 continues to read as follows:

Authority: 49 U.S.C. 113, 504, 521(b), 5105(d), 5109, 5113, 13901-13905, 13908, 31135, 31136, 31144, 31148, 31151, 31502; sec. 113(a), Pub. L. 103-311, 108 Stat. 1673, 1676; sec. 408, Pub. L. 104-88, 109 Stat. 803, 958; sec. 350, Pub. L. 107-87, 115 Stat. 833, 864; sec. 5205, Pub. L. 114-94, 129 Stat. 1312, 1537; and 49 CFR 1.87.

§ 385.305 [Amended]

52. Amend § 385.305 by:

a. Lifting the suspension of the section;

b. In paragraph (a), removing “Web site” and “http” and in their places adding “website” and “https”, respectively; and

c. Suspending the section indefinitely.

§ 385.305T [Amended]

53. Amend § 385.305T by, in paragraph (a), removing the words “Web site” and in their place adding the word “website”.

§ 385.603T [Amended]

54. Amend § 385.603T by, in paragraph (d), removing “Web site” and “http” and in their places adding “website” and “https”, respectively.

PART 386—RULES OF PRACTICE FOR FMCSA PROCEEDINGS

55. The authority citation for part 386 continues to read as follows:

Authority: 28 U.S.C. 2461 note; 49 U.S.C. 113, 1301 note, 31306a; 49 U.S.C. chapters 5, 51, 131-141, 145-149, 311, 313, and 315; and 49 CFR 1.81, 1.87.

56. Amend part 386 by:

a. In each section of the part, except §§ 386.1 and 386.2, removing the text “Assistant Administrator” wherever it appears and adding in its place the text “Agency Decisionmaker”;

b. In each section of the part, removing the text “Agency decisionmaker” wherever it appears and adding in its place the text “Agency Decisionmaker”; and

c. In each section of the part, removing the text “agency decisionmaker” wherever it appears and adding in its place the text “Agency Decisionmaker”.

§ 386.1 [Amended]

57. Amend § 386.1 by removing the words “Assistant Administrator, who also acts as the Chief Safety Officer of the Federal Motor Carrier Safety Administration,” and adding in their place the words “Agency Decisionmaker”.

58. Amend § 386.2 by:

a. Revising the definition of “Agency Decisionmaker”;

b. Removing the definition of “Assistant Administrator”; and

c. In the definition of “Final Agency Order”, removing “appropriate Field Administrator (for default judgments under § 386.14) or the Assistant Administrator,”, “386.22”, and “386.61” and in their places adding “Agency Decisionmaker”, “§ 386.22”, and “§ 386.61”, respectively.

The revision reads as follows:

§ 386.2 Definitions.

* * * * *

Agency Decisionmaker means the FMCSA official authorized to issue a final decision and order of the Agency in an administrative proceeding under this part. The Agency Decisionmaker is an FMCSA official appointed by the President or otherwise duly authorized.

* * * * *

§ 386.3 [Amended]

59. Amend § 386.3 by, in paragraph (e), removing the words “agency decisionmakers” and in their place adding the words “Agency Decisionmakers”.

§ 386.12 [Amended]

60. Amend § 386.12 by removing “1-800-DOT-SAFT (1-800-368-7238)” in each place that it appears and in its place adding “1-888-DOT-SAFT (1-888-368-7238)”.

§ 386.14 [Amended]

61. Amend § 386.14 by:

a. In paragraph (c)(1):

i. Removing “paragraph (a)” and in its place adding “paragraph (a) of this section”; and

ii. Removing the words “Final Agency Order” in each place that they appear and in their place adding the words “Final Order”;

b. In paragraph (c)(2), removing the words “Final Agency Order” and in their place adding the words “Final Order”; and

c. In paragraph (c)(3):

i. Adding the words “Final Order that has become a” before the words “Final Agency Order”; and

ii. Removing “Subpart” and adding in its place “subpart”.

§ 386.16 [Amended]

62. Amend § 386.16 by:

a. Removing the words “Final Agency Order” in each place that they appear and in their place adding the words “Final Order”; and

b. In paragraph (a)(5), removing the words “and order”.

§ 386.31 [Amended]

63. Amend § 386.31 by:

a. Removing the words “Final Agency Order” and in their place adding the words “Final Order”; and

b. Removing “of this part”.

§ 386.36 [Amended]

64. Amend § 386.36 by removing the words “final agency order” and “Final Agency Order” and in their places adding the words “Final Order”.

§ 386.61 [Amended]

65. Amend § 386.61 by, in paragraph (b), removing the words “Final Agency Order” and in their place adding the words “Final Order”.

§ 386.64 [Amended]

66. Amend § 386.64 by:

a. In paragraph (a), removing the words “Final Agency Order” and in their place adding the words “Final Order”; and

b. In paragraph (b), removing the words “Final Agency Order” in each place that they appear and in their place adding the words “Final Order”.

PART 387—MINIMUM LEVELS OF FINANCIAL RESPONSIBILITY FOR MOTOR CARRIERS

67. The authority citation for part 387 continues to read as follows:

Authority: 49 U.S.C. 13101, 13301, 13906, 13908, 14701, 31138, 31139; sec. 204(a), Pub. L. 104-88, 109 Stat. 803, 941; and 49 CFR 1.87.

68. In § 387.9, amend table 1 by revising entry (2) to read as follows:

§ 387.9 Financial responsibility, minimum levels.

* * * * *

Table 1 to § 387.9—Schedule of Limits—Public Liability
Type of carriage | Commodity transported | January 1, 1985
* * * * * * *
(2) For-hire and Private (In interstate, foreign, or intrastate commerce, with a gross vehicle weight rating of 10,001 or more pounds) | Hazardous substances, as defined in 49 CFR 171.8, transported in bulk in cargo tanks, portable tanks, or hopper-type vehicles with capacities in bulk; in bulk Division 1.1, 1.2 or 1.3 materials; in bulk Division 2.3, Hazard Zone A material; in bulk Division 6.1, Packing Group I, Hazard Zone A material; in bulk Division 2.1 or 2.2 material; or highway route controlled quantities of a Class 7 material, as defined in 49 CFR 173.403 | 5,000,000
* * * * * * *

PART 389—RULEMAKING PROCEDURES—FEDERAL MOTOR CARRIER SAFETY REGULATIONS

69. The authority citation for part 389 continues to read as follows:

Authority: 49 U.S.C. 113, 501 et seq., subchapters I and III of chapter 311, chapter 313, and 31502; sec. 5204 of Pub. L. 114-94, 129 Stat. 1312, 1536; 42 U.S.C. 4917; and 49 CFR 1.87.

§ 389.3 [Amended]

70. Amend § 389.3 by, in the definition of “Act”, adding the words “or commercial activity” after the words “motor carrier safety”.

§ 389.5 [Amended]

71. Amend § 389.5 by, in paragraph (b)(2), removing “Web site” and “http” and in their places adding “website” and “https”, respectively.

§ 389.31 [Amended]

72. Amend § 389.31 by, in paragraph (b)(1), removing the address “www.FMCSA.gov” and in its place adding the address “www.FMCSA.dot.gov”.

PART 390—FEDERAL MOTOR CARRIER SAFETY REGULATIONS; GENERAL

73. The authority citation for part 390 continues to read as follows:

Authority: 49 U.S.C. 113, 504, 508, 31132, 31133, 31134, 31136, 31137, 31144, 31149, 31151, 31502; sec. 114, Pub. L. 103-311, 108 Stat. 1673, 1677; secs. 212 and 217, Pub. L. 106-159, 113 Stat. 1748, 1766, 1767; sec. 229, Pub. L. 106-159 (as added and transferred by sec. 4115 and amended by secs. 4130-4132, Pub. L. 109-59, 119 Stat. 1144, 1726, 1743, 1744), 113 Stat. 1748, 1773; sec. 4136, Pub. L. 109-59, 119 Stat. 1144, 1745; secs. 32101(d) and 32934, Pub. L. 112-141, 126 Stat. 405, 778, 830; sec. 2, Pub. L. 113-125, 128 Stat. 1388; secs. 5403, 5518, and 5524, Pub. L. 114-94, 129 Stat. 1312, 1548, 1558, 1560; sec. 2, Pub. L. 115-105, 131 Stat. 2263; and 49 CFR 1.81, 1.81a, 1.87.

74. Amend § 390.5 by:

a. Lifting the suspension of the section;

b. Revising the definitions for “Employer”, “Medical variance”, and “Special agent”; and

c. Suspending the section indefinitely.

The revisions read as follows:

§ 390.5 Definitions.

* * * * *

Employer means any person engaged in a business affecting interstate commerce who owns or leases a commercial motor vehicle in connection with that business, or assigns employees to operate it, but such term does not include the United States, any State, any political subdivision of a State, or an agency established under a compact between States approved by the Congress of the United States.

* * * * *

Medical variance means a driver has received one of the following from FMCSA that allows the driver to be issued a medical certificate:

(1) An exemption letter permitting operation of a commercial motor vehicle pursuant to part 381, subpart C, of this chapter; or

(2) A skill performance evaluation certificate permitting operation of a commercial motor vehicle pursuant to § 391.49 of this chapter.

* * * * *

Special agent. See appendix B to this part.

* * * * *

75. Amend § 390.5T by revising the definitions for “Employer”, “Medical variance”, and “Special agent” to read as follows:

390.5T Definitions.

* * * * *

Employer means any person engaged in a business affecting interstate commerce who owns or leases a commercial motor vehicle in connection with that business, or assigns employees to operate it, but such term does not include the United States, any State, any political subdivision of a State, or an agency established under a compact between States approved by the Congress of the United States.

* * * * *

Medical variance means a driver has received one of the following from FMCSA that allows the driver to be issued a medical certificate:

(1) An exemption letter permitting operation of a commercial motor vehicle pursuant to part 381, subpart C, of this chapter; or

(2) A skill performance evaluation certificate permitting operation of a commercial motor vehicle pursuant to § 391.49 of this chapter.

* * * * *

Special agent. See appendix B to this part.

* * * * *

§ 390.15 [Amended]

76. Amend § 390.15 by, in paragraph (a)(1), removing the words “third party” and in their place adding the words “third-party”.

§ 390.19 [Amended]

77. Amend § 390.19 by:

a. Lifting the suspension of the section;

b. In paragraphs (c) and (d), removing the words “Web site” and in their place adding the word “website”;

c. In paragraph (c), removing “http” and in its place adding “https”; and

d. Suspending the section indefinitely.

§ 390.19T [Amended]

78. Amend § 390.19T by:

a. In paragraphs (c) and (d), removing the words “Web site” and in their place adding the word “website”; and

b. In paragraph (c), removing “http” and in its place adding “https”.

§ 390.25 [Amended]

79. Amend § 390.25 by, in the last sentence, removing the words “he or she” and adding the word “it” in their place.

80. Amend § 390.27 by, in the table, revising the entry for “Southern” to read as follows:

§ 390.27 Locations of motor carrier safety service centers.

Service center | Territory included | Location of office
* * * * * * *
Southern | Alabama, Arkansas, Florida, Georgia, Kentucky, Louisiana, Mississippi, North Carolina, Oklahoma, South Carolina, Tennessee | 61 Forsyth Street SW, Suite 3M40, Atlanta, GA 30303.
* * * * * * *

* * * * *

Subpart E [Suspension Lifted]

81. Lift the suspension of subpart E, consisting of §§ 390.201 through 390.209.

§ 390.200T [Amended]

82. Amend § 390.200T by, in paragraph (b), removing “Web site” and “http” and in their places adding “website” and “https”, respectively.

§ 390.201 [Amended]

83. Amend § 390.201 by, in paragraphs (e) and (f), removing “Web site” and “http” and in their places adding “website” and “https”, respectively.

§§ 390.201 through 390.209 [Suspended]

84. Suspend §§ 390.201 through 390.209 indefinitely.

PART 391—QUALIFICATIONS OF DRIVERS AND LONGER COMBINATION VEHICLE (LCV) DRIVER INSTRUCTORS

85. The authority citation for part 391 continues to read as follows:

Authority: 49 U.S.C. 504, 508, 31133, 31136, 31149, 31502; sec. 4007(b), Pub. L. 102-240, 105 Stat. 1914, 2152; sec. 114, Pub. L. 103-311, 108 Stat. 1673, 1677; sec. 215, Pub. L. 106-159, 113 Stat. 1748, 1767; sec. 32934, Pub. L. 112-141, 126 Stat. 405, 830; secs. 5403 and 5524, Pub. L. 114-94, 129 Stat. 1312, 1548, 1560; sec. 2, Pub. L. 115-105, 131 Stat. 2263; and 49 CFR 1.87.

86. Amend § 391.23 by revising paragraph (a)(1) to read as follows:

§ 391.23 Investigation and inquiries.

(a) * * *

(1) An inquiry, within 30 days of the date the driver's employment begins, to each State where the driver held or holds a motor vehicle operator's license or permit during the preceding 3 years, to obtain that driver's motor vehicle record covering that driver's prior 3-year driving history.

* * * * *

§ 391.43 [Amended]

87. Amend § 391.43 by:

a. Removing and reserving paragraph (e);

b. In paragraphs (g)(5)(i)(B) and (g)(5)(ii), removing the words “Web site” and in their place adding the word “website”; and

c. In paragraph (g)(5)(i)(B), removing “this subpart E” and in its place adding “this subpart”.

88. Effective January 16, 2024, further amend § 391.43 by revising paragraph (f) and (h) to read as follows:

§ 391.43 Medical examination; certificate of physical examination.

* * * * *

(f) The medical examination shall be performed, and its results shall be recorded on the Medical Examination Report Form, MCSA-5875, set out in this paragraph (f):

BILLING CODE 4910-EX-P

* * * * *

(h) The medical examiner's certificate shall be completed in accordance with the following Form MCSA-5876, Medical Examiner's Certificate:

BILLING CODE 4910-EX-C

* * * * *

§ 391.45 [Amended]

89. Amend § 391.45 by removing and reserving paragraph (d).

90. Amend § 391.47 by:

a. Revising paragraphs (b)(1), (2), and (7); and

b. In paragraphs (c), (d), and (f), removing the text “(MC-PS)”.

The revisions read as follows.

§ 391.47 Resolution of conflicts of medical evaluation.

* * * * *

(b) * * *

(1) The application must contain the name and address of the driver, motor carrier, and all medical examiners and medical specialists involved in the proceeding.

(2) The applicant must submit proof that there is a disagreement between the medical examiner for the driver and the medical examiner for the motor carrier concerning the driver's qualifications.

* * * * *

(7) The applicant must submit all medical records and statements of the medical examiners and medical specialists who have given opinions on the driver's qualifications.

* * * * *

PART 395—HOURS OF SERVICE OF DRIVERS

91. The authority citation for part 395 continues to read as follows:

Authority: 49 U.S.C. 504, 21104(e), 31133, 31136, 31137, 31502; sec. 113, Pub. L. 103-311, 108 Stat. 1673, 1676; sec. 229, Pub. L. 106-159 (as added and transferred by sec. 4115 and amended by secs. 4130-4132, Pub. L. 109-59, 119 Stat. 1144, 1726, 1743, 1744), 113 Stat. 1748, 1773; sec. 4133, Pub. L. 109-59, 119 Stat. 1144, 1744; sec. 32934, Pub. L. 112-141, 126 Stat. 405, 830; sec. 5206(b), Pub. L. 114-94, 129 Stat. 1312, 1537; and 49 CFR 1.87.

92. Amend § 395.2 by revising paragraph (1) of the definition for “Utility service vehicle” to read as follows:

§ 395.2 Definitions.

* * * * *

Utility service vehicle * * *

(1) Used in the furtherance of repairing, maintaining, or operating any structures or any other physical facilities necessary for the delivery of public utility services, including the furnishing of electric, gas, water, sanitary sewer, telephone, television cable or community antenna service, and broadband-internet and cellular telephone operations;

* * * * *

§ 395.13 [Amended]

93. Amend § 395.13 by, in paragraph (a), removing the words “appendix B to this subchapter” and adding in their place the words “appendix B to part 390 of this chapter”.

§ 395.22 [Amended]

94. Amend § 395.22 by, in paragraph (a), removing the words “Web site” and in their place adding the word “website”.

Appendix A to Subpart B of Part 395 [Amended]

95. Amend appendix A to subpart B of part 395 by removing the words “Web site” in each place that they appear and in their place adding the word “website”.

PART 396—INSPECTION, REPAIR, AND MAINTENANCE

96. The authority citation for part 396 continues to read as follows:

Authority: 49 U.S.C. 504, 31133, 31136, 31151, 31502; sec. 32934, Pub. L. 112-141, 126 Stat. 405, 830; sec. 5524, Pub. L. 114-94, 129 Stat. 1312, 1560; and 49 CFR 1.87.

§ 396.9 [Amended]

97. Amend § 396.9 by, in paragraph (a), removing the words “appendix B to this subchapter” and adding in their place “appendix B to part 390 of this chapter”.

PART 398—TRANSPORTATION OF MIGRANT WORKERS

98. The authority citation for part 398 continues to read as follows:

Authority: 49 U.S.C. 13301, 13902, 31132, 31133, 31136, 31502, 31504; sec. 204, Pub. L. 104-88, 109 Stat. 803, 941; sec. 212, Pub. L. 106-159, 113 Stat. 1748, 1766; and 49 CFR 1.87.

§ 398.8 [Amended]

99. Amend § 398.8 by, in paragraph (a), removing the words “Appendix B of chapter III of this title” and adding in their place “appendix B to part 390 of this chapter”.

Issued under authority delegated in 49 CFR 1.87.
Robin Hutcheson,
Administrator.

[FR Doc. 2023-24160 Filed 11-16-23; 8:45 am]

BILLING CODE 4910-EX-P